COMMISSION ON CIVIL RIGHTS

Agenda and Notice of Public Meeting of the Montana Advisory Committee

AGENCY: Commission on Civil Rights.

ACTION: Announcement of meeting.

SUMMARY: Notice is hereby given, pursuant to the provisions of the rules and regulations of the U.S. Commission on Civil Rights (Commission), and the Federal Advisory Committee Act (FACA), that a briefing meeting of the Montana Advisory Committee to the Commission will convene at 1 p.m. (MDT) on Monday, August 29, 2016, at the Al Bedoo Shrine Auditorium, 1125 Broadwater Avenue, Billings, MT 59102. The purpose of the briefing meeting is to gather information from federal and tribal government officials and others regarding bordertown discrimination in Montana. Briefing topics will include discrimination that impacts Native Americans in the areas of education, employment, services, public accommodations, law enforcement, and the legal.

Persons who plan to attend the meeting and require other accommodations, please contact Evelyn Bohor at ebohor@usccr.gov at the Rocky Mountain Regional Office at least ten (10) working days before the scheduled date of the meeting.

Time will be set aside at the end of the briefing so that members of the public may address the Committee after the formal presentations have been completed. Persons interested in the issue are also invited to submit written comments; the comments must be received in the regional office by Thursday, September 29, 2016. Written comments may be mailed to the Rocky Mountain Regional Office, U.S. Commission on Civil Rights, 1961 Stout Street, Suite 13-201, Denver, CO 80294, faxed to (303) 866-1050, or emailed to Evelyn Bohor at ebohor@usccr.gov. Persons who desire additional information may contact the Rocky Mountain Regional Office at (303) 866-1040.

Records and documents discussed during the meeting will be available for public viewing as they become available at https://database.faca.gov/committee/meetings.aspx?cid=259 and clicking on the “Meeting Details” and “Documents” links. Records generated from this meeting may also be inspected and reproduced at the Rocky Mountain Regional Office, as they become available, both before and after the meeting. Persons interested in the work of this advisory committee are advised to go to the Commission's Web site, www.usccr.gov, or to contact the Rocky Mountain Regional Office at the above phone number, email or street address.

Agenda

Welcome and Introductions

Norma Bixby, Chair, Montana Advisory Committee

Malee V. Craft, Regional Director, RMRO-USCCR, Denver, CO

Briefing

Montana Advisory Committee

Government and Tribal Officials, Advocates, Experts

DATES: Monday, August 29, 2016 (MDT).

ADDRESSES: Al Bedoo Shrine Auditorium, 1125 Broadwater Avenue, Billings, MT 59102.

FOR FURTHER INFORMATION CONTACT: Malee Craft at mcraft@usccr.gov, or 303-866-1040.

Dated: July 22, 2016.
David Mussatt,
Chief, Regional Programs Unit.

[FR Doc. 2016-17749 Filed 7-26-16; 8:45 am]

BILLING CODE 6335-01-P